DEPARTMENT OF THE TREASURY

Fiscal Service

Surety Companies Acceptable on Federal Bonds: Change in State of Incorporation—Firemen's Insurance Company of Newark, NJ

AGENCY: Financial Management Service, Fiscal Service, Department of the Treasury.

ACTION: Notice.

SUMMARY: This is Supplement No. 16 to the Treasury Department Circular 570, 2005 Revision, published July 1, 2005, at 70 FR 38502.

FOR FURTHER INFORMATION CONTACT: Surety Bond Branch at (202) 874-6850.

SUPPLEMENTARY INFORMATION: Firemen's Insurance Company of Newark, New Jersey has redomesticated from the state of New Jersey to the state of South Carolina, effective January 1, 2006.

Federal bond-approving officers should annotate their reference copies of the Treasury Department Circular 570 (“Circular”), 2005 revision, at 70 FR 38518, to reflect this change.

The Circular may be viewed and downloaded through the Internet at http://www.fms.treas.gov/c570. A hard copy may be purchased from the Government Printing Office (GPO), Subscription Service, Washington, DC, telephone (202) 512-1800. When ordering the Circular from GPO, use the following stock number: 769-004-05219-0.

Questions concerning this notice may be directed to the U.S. Department of the Treasury, Financial Management Service, Funds Management Division, Surety Bond Branch, 3700 East-West Highway, Room 6F01, Hyattsville, MD 20782.

Dated: May 25, 2006.
Vivian L. Cooper,
Director, Financial Accounting and Services Division, Financial Management Service.

[FR Doc. 06-5040 Filed 6-1-06; 8:45 am]

BILLING CODE 4810-35-M